DEPARTMENT OF COMMERCE

National Oceanic and Atmospheric Administration

[I.D. 013003C]

Endangered Species; Files No.1266-01 and 1388

AGENCY: National Marine Fisheries Service (NMFS), National Oceanic and Atmospheric Administration (NOAA), Commerce.

ACTION: Receipt of applications for modification.

SUMMARY: Notice is hereby given that the following applicants have applied in due form for a permit modification to take sea turtles for purposes of scientific research/enhancement:

REMSA, Inc., 12829 Jefferson Ave., Suite 108, Newport News, VA 23608 (John Glass, Principal Investigator) (File No. 1266-01); and

Dr. David Nelson, U.S. Army Research and Development Center, Waterways Experiment Station, 4104 Freetown Rd., Vicksburg, MS 39183 (File No. 1388).

DATES: Written or telefaxed comments must be received on or before May 5, 2003.

ADDRESSES: The modification requests and related documents are available for review upon written request or by appointment in the following office(s):

Permits, Conservation and Education Division, Office of Protected Resources, NMFS, 1315 East-West Highway, Room 13705, Silver Spring, MD 20910; phone (301)713-2289; fax (301)713-0376; and

Northeast Region, NMFS, One Blackburn Drive, Gloucester, MA 01930-2298; phone (978)281-9200; fax (978)281-9371;

Southeast Region, NMFS, 9721 Executive Center Drive North, St. Petersburg, FL 33702-2432; phone (727)570-5301; fax (727)570-5320.

Written comments or requests for a public hearing on these requests should be submitted to the Chief, Permits, Conservation and Education Division, F/PR1, Office of Protected Resources, NMFS, 1315 East-West Highway, Room 13705, Silver Spring, MD 20910. Those individuals requesting a hearing should set forth the specific reasons why a hearing on these particular modification requests would be appropriate.

Comments may also be submitted by facsimile at (301)713-0376, provided the facsimile is confirmed by hard copy submitted by mail and postmarked no later than the closing date of the comment period. Please note that comments will not be accepted by e-mail or other electronic media.

FOR FURTHER INFORMATION CONTACT: Carrie Hubard or Ruth Johnson, (301)713-2289.

SUPPLEMENTARY INFORMATION: The subject modifications are requested under the authority of the Endangered Species Act of 1973, as amended (16 U.S.C. 1531 et seq.) and the regulations governing the taking, importing, and exporting of endangered and threatened species (50 CFR 222-226).

Permit No. 1266-01 authorizes REMSA, Inc. to capture via trawl, handle, flipper and PIT tag, and release sea turtles while removing them from the path of hopper dredges. Annually, 350 loggerhead, 150 green, 150 Kemp's ridley, 10 hawksbill and 10 leatherback sea turtles may be taken in this manner. Research is conducted in the Atlantic Ocean and the Gulf of Mexico. In this modification, the permit holder requests authorization to biopsy sample sea turtles. A maximum of 350 loggerhead, 150 green, 150 Kemp's ridley, 10 hawksbill, and 10 leatherback sea turtles could be biopsy sampled annually until the permit's expiration on April 30, 2006. Biopsy sampling will follow the protocol for tissue collection established by the NMFS Southeast Fisheries Science Center and will only be performed by trained personnel.

Permit No. 1388 authorizes Dr. David Nelson to conduct sea turtle research in the northwestern Atlantic Ocean and the Gulf of Mexico. The first project involves relocation trawling in association with hopper dredge activity. A total of 200 loggerhead, 100 green, 30 Kemp's ridley, 2 hawksbill, and 2 leatherback sea turtles are authorized to be captured, handled, measured, flipper and PIT tagged, and released. The second project uses a subset of the turtles caught via relocation trawling to investigate large-scale movements and diving behavior. Twenty loggerhead, 5 Kemp's ridley, and 5 green turtles will be satellite tagged in addition to the above activities before being released. The third project is an abundance and habitat survey of green sea turtles along the shoreline of Cape Canaveral. A total of 75 green sea turtles may be captured, handled, flipper and PIT tagged, and fitted with a radio/sonic transmitter or a time-depth recorder/radio transmitter, before being released. The permit holder requests authorization to biopsy sample 30 of the 200 loggerhead turtles that may be captured annually during relocation trawls in association with dredging activity. Biopsy sampling will follow the protocol for tissue collection established by the NMFS Southeast Fisheries Science Center and will only be performed by trained personnel.

In compliance with the National Environmental Policy Act of 1969 (42 U.S.C. 4321 et seq.), an initial determination has been made that the activity proposed is categorically excluded from the requirement to prepare an environmental assessment or environmental impact statement.

Dated: March 28, 2003.
Stephen L. Leathery,
Chief, Permits, Conservation and Education Division, Office of Protected Resources, National Marine Fisheries Service.

[FR Doc. 03-8273 Filed 4-3-03; 8:45 am]

BILLING CODE 3510-22-S